DEPARTMENT OF LABOR

Employment and Training Administration

[TA-W-41,770]

RFS Ecusta, Pisgah Forest, North Carolina; Amended Certification Regarding Eligibility To Apply for Worker Adjustment Assistance

In accordance with section 223 of the Trade Act of 1974 (19 U.S.C. 2273) the Department of Labor issued a Certification of Eligibility To Apply for Worker Adjustment Assistance on November 4, 2002, applicable to workers of RFS Ecusta, Pisgah Forest, North Carolina. The notice will soon be published in the Federal Register.

At the request of the State agency, the Department reviewed the certification for workers of the subject firm. The workers produced tobacco, specialty, and printing paper. Information provided by the State shows that workers of RFS Ecusta were previously certified (TA-W-37,854) which expired July 24, 2002. To avoid an overlap in worker group coverage, the Department is amending the impact date for TA-W-41,770 from May 21, 2001, to July 25, 2002.

The amended notice applicable to TA-W-41,770 is hereby issued as follows:

“All workers of RFS Ecusta, Pisgah Forest, North Carolina, who became totally or partially separated from employment on or after July 25, 2002, through November 4, 2004, are eligible to apply for adjustment assistance under section 223 of the Trade Act of 1974.”

Signed at Washington, DC this 19th day of November, 2002.
Linda G. Poole,
Certifying Officer, Division of Trade Adjustment Assistance.

[FR Doc. 02-31063 Filed 12-6-02; 8:45 am]

BILLING CODE 4510-30-P